DEPARTMENT OF TRANSPORTATION

Surface Transportation Board

[Docket No. EP 290 (Sub-No. 4)]

Railroad Cost Recovery Procedures—Productivity Adjustment

AGENCY: Surface Transportation Board, DOT.

ACTION: Proposed railroad cost recovery procedures productivity adjustment.

SUMMARY: In a decision served on March 4, 2014, we proposed to adopt 1.010 (1.0% per year) as the measure of average change in railroad productivity for the 2008-2012 (5-year) averaging period. This represents an increase of 0.1% from the average for the 2007-2011 period. The Board's March 4, 2014 decision in this proceeding stated that comments may be filed addressing any perceived data and computational errors in our calculation. It also stated that, if there were no further action taken by the Board, the proposed productivity adjustment would become effective on March 19, 2014.

DATES: The productivity adjustment is effective March 19, 2014. Comments are due by March 17, 2014.

ADDRESSES: Send comments (an original and 10 copies) referring to Docket No. EP 290 (Sub-No. 4) to: Surface Transportation Board, 395 E Street SW., Washington, DC 20423-0001.

FOR FURTHER INFORMATION CONTACT: Michael Smith, (202) 245-0322. Federal Information Relay Service (FIRS) for the hearing impaired: (800) 877-8339.

SUPPLEMENTARY INFORMATION: Additional information is contained in the Board's decision, which is available on our Web site, http://www.stb.dot.gov. Copies of the decision may be purchased by contacting the Office of Public Assistance, Governmental Affairs, and Compliance at (202) 245-0238. Assistance for the hearing impaired is available through FIRS at (800) 877-8339.

This action will not significantly affect either the quality of the human environment or the conservation of energy resources.

Decided: March 4, 2014.
By the Board, Chairman Elliott and Vice Chairman Begeman.
Jeffrey Herzig,
Clearance Clerk.

[FR Doc. 2014-05049 Filed 3-6-14; 8:45 am]

BILLING CODE 4915-01-P